DEPARTMENT OF COMMERCE

National Oceanic and Atmospheric Administration

50 CFR Part 648

Fisheries of the Northeastern United States

CFR Correction

In Title 50 of the Code of Federal Regulations, Part 600 to End, revised as of October 1, 2002, § 648.21 is corrected by removing paragraph (e) appearing on page 337 and reinstating the paragraph (e) appearing on page 316 in the 2000 edition. The reinstated text reads as follows:

§ 648.21 Procedures for determining initial annual amounts.

* * * * *

(e) Inseason adjustments. The specifications established pursuant to this section may be adjusted by the Regional Administrator, in consultation with the MAFMC, during the fishing year by publishing notification in the Federal Register stating the reasons for such an action and providing a 30-day public comment period.

* * * * *

[FR Doc. 03-55515 Filed 6-5-03; 8:45 am]

BILLING CODE 1505-01-D